CONSUMER PRODUCT SAFETY COMMISSION

[Docket No. CPSC-2009-0102]

Agency Information Collection Activities; Extension of Collection; Comment Request; National Electronic Injury Surveillance System (NEISS) and Follow-Up Activities for Product Related Injuries

AGENCY: Consumer Product Safety Commission.

ACTION: Notice of information collection; request for comment.

SUMMARY: As required by the Paperwork Reduction Act of 1995, the Consumer Product Safety Commission (CPSC or Commission) requests comments on a proposed extension of approval of information collection to obtain data on consumer product-related injuries, and follow-up activities for product-related injuries. The Office of Management and Budget (OMB) previously approved the collection of information under control number 3041-0029. OMB's most recent extension of approval will expire on May 31, 2025. The Commission will consider all comments received in response to this notice before requesting an extension of this collection of information from OMB.

DATES: Submit comments on the collection of information by April 28, 2025.

ADDRESSES: You may submit comments, identified by Docket No. CPSC-2009-0102, within 60 days of publication of this notice by any of the following methods:

Electronic Submissions: Submit electronic comments to the Federal eRulemaking Portal at: http://www.regulations.gov. Follow the instructions for submitting comments. Do not submit through this website: confidential business information, trade secret information, or other sensitive or protected information that you do not want to be available to the public. The Commission typically does not accept comments submitted by email, except as described below.

Mail/hand delivery/courier/written submissions: CPSC encourages you to submit electronic comments by using the Federal eRulemaking Portal. You may, however, submit comments by mail/hand delivery/courier to: Office of the Secretary, Consumer Product Safety Commission, 4330 East-West Highway, Bethesda, MD 20814; telephone (301) 504-7923.

Instructions: All submissions received must include the agency name and docket number for this notice. CPSC may post all comments without change, including any personal identifiers, contact information, or other personal information provided, to: http://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2009-0102 into the “Search” box, and follow the prompts.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: National Electronic Injury Surveillance System (NEISS) and Follow-up Activities for Product Related Injuries.

OMB Number: 3041-0029.

Type of Review: Extension of collection.

Frequency of Response: On occasion.

Affected Public: Hospitals and individuals.

General Description of Collection: The Consumer Product Safety Act (CPSA) requires the Commission to collect information related to the cause and prevention of death, injury, and illness associated with consumer products. 15 U.S.C. 2054(a). CPSC conducts continuing studies and investigations of deaths, injuries, diseases, other health impairments, and economic losses resulting from incidents involving consumer products. CPSC obtains information about product-related deaths, injuries, and illnesses from a variety of sources, including news outlets, death certificates, consumer complaints, and medical facilities. In addition, CPSC operates the National Electronic Injury Surveillance System (NEISS) to collect data on consumer product-related injuries treated in hospital emergency departments in the United States. CPSC also uses the NEISS system to collect information on childhood poisonings in accordance with the Poison Prevention Packaging Act of 1970.

From these sources, the CPSC selects cases of interest for further investigation by contacting individuals who witnessed or were injured in incidents involving consumer products. These investigations are conducted on-site (face-to-face), by telephone, or by the internet. This information is also collected by contacting state and local officials, including police, coroners and fire investigators, and others with knowledge of the incident.

CPSC uses the information from this collection to support development and improvement of voluntary standards; proceedings for the development of mandatory standards and regulations; information and education campaigns; and administrative and judicial proceedings for enforcement of the statutes, standards, and regulations administered by the agency. The information collected informs the agency in its efforts to remove unsafe products from channels of distribution and consumers' homes, and it provides information to the public about the safety of consumer products.¹

¹ Through Interagency Agreements, the CPSC also uses the NEISS system to collect information on injuries for the Centers for Disease Control and Prevention (CDC) (NEISS All Injury Program (NEISS-AIP)). In addition to the standard data variables collected on all NEISS injuries, the NEISS-AIP collects additional variables on several studies for CDC (Firearm-Related Injuries, Adverse Drug Events, Assaults, and Self- Inflicted Violence) and one study on non-crash motor vehicle-related injuries for the National Highway and Transportation Safety Administration (NHTSA).

Estimated Number of Respondents: CPSC estimates a total number of 3,110 respondents, annually. CPSC estimates 160 respondents to NEISS, which includes hospitals that directly report information to NEISS and hospitals that allow access to a CPSC contractor who collects the data for NEISS. CPSC estimates 2,950 individual respondents expected to be interviewed by CPSC for further investigations of reported cases.

Estimated Time per Response: All NEISS data are reported electronically and NEISS coders directly submit data to CPSC through the internet on a CPSC-developed application called WebNEISS. The NEISS coders review an estimated 4.5 million emergency department charts annually. Each chart review requires approximately 30 seconds to review and determine if the record is reportable. On average, the 1.15 million reportable records take 2 minutes each to enter into WebNEISS. Records that qualify for a special study take an additional 90 seconds to 2 minutes to code. Collecting emergency department records for review, correcting error messages, and other tasks takes between 2.5 and 6 hours weekly. Respondents also spend about 8-36 hours per year participating in related activities (training, evaluations, and communicating with other hospital staff). The average burden per respondent is 720 hours. However, the total burden hours on each respondent varies, due to differences in the sizes of the hospitals (e.g., small rural hospitals versus large metropolitan hospitals). The smallest hospital will report an estimated 250 cases with a burden of about 150 hours, while the largest hospital will report an estimated 65,000 cases with a burden of about 4,500 hours.

Information for follow-up investigations from NEISS and other sources is collected through traditional face-to-face, telephone, or internet-based interviews with consumers, witnesses, and other knowledgeable parties, such as fire, police, and healthcare professionals. On average, an on-site interview takes about 4.5 hours. CPSC staff also complete about 750 in-depth investigations (IDIs) by telephone through the use of a Computer Assisted Telephone Interview (CATI) or self-administered Computer Assisted internet Interviews (CAII) questionnaires. Each CATI or CAII IDI requires about 20 minutes to complete. CPSC estimates 13,523 annual burden hours on these respondents: 13,275 hours for face-to-face interviews and 248 hours for in-depth telephone or internet interviews.

Total Estimated Annual Burden: Table 1 summarizes the burden of the collection. The total estimated annualized burden to respondents is 128,523 hours (115,248 for NEISS respondents and 13,523 for individuals).

Table 1—Average Annual Burden
| Respondents | Frequency | Responses | Burden per response (minutes) | Total burden (hours)
NEISS | 160 | 7,188 | 1,150,000 | 6.0 | 115,000
Other Respondents | 2,950 | 1 | 2,950 | 275.0 | 13,523
Total | 3,110 | 371 | 1,152,950 | 6.7 | 128,523

Total Estimated Annual Cost to Respondents: The total costs to NEISS respondents are estimated at approximately $6.9 million. NEISS respondents enter into contracts with CPSC and are compensated for these costs. The average cost per respondent is estimated to be about $43,000. The average cost per burden hour is estimated to be $60 per hour (including wages and overhead). However, the actual cost to each respondent varies, due to the type of respondent (hospital versus CPSC contractor), size of hospital, and regional differences in wages and overhead. Therefore, the actual annual cost for any given respondent may vary between $3,000 at a small rural hospital, and $550,000 at the largest metropolitan hospital.

CPSC estimates the value of the time required for reporting by other respondents to be $46.84 an hour, the average cost for employee compensation for civilian workers (U.S. Bureau of Labor Statistics, “Employer Costs for Employee Compensation,” September 2024: https://www.bls.gov/news.release/archives/ecec_12172024.pdf). At this valuation, the estimated annual cost to the public is about $633,417 (13,523 burden hours × $46.84 per hour = $633,417.32).

Request for Comments

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2025-03158 Filed 2-26-25; 8:45 am]

BILLING CODE 6355-01-P